DEPARTMENT OF HEALTH AND HUMAN SERVICES

Office of the Secretary

[Document Identifier: OS-0990-0000]

Thirty-Day Notice

AGENCY: Office of the Secretary.

Agency Information Collection Activities: Proposed Collection; Comment Request

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request:

Existing Collection without an OMB number.

Title of Information Collection: National Blood Collection and Utilization Survey.

Form/OMB No.: OS-0990-New.

Use: The Advisory Committee on Blood Safety and Availability, Health and Human Services (HHS), was established to provide policy advice to the Secretary and the Assistant Secretary for Health. The advice of the committee is partly dependent on the analysis of relevant blood collection and utilization data which is also widely distributed and used by the transfusion medicine community. To that end, the Office of Public Health and Science (OPHS) is responsible for conducting a bi-annual cross-sectional national blood products survey. OPHS performed the 2005 National Blood Collection and Utilization Survey (NBCUS) using a nationally representative sample of hospitals and blood collection centers. Previously private and government financed versions of the NBCUS have successfully surveyed greater than 90% of the U.S. blood collection and processing facilities and more than 2900 hospital based transfusion blood banks in the United States. The objective of the 2007 NBCUS is to produce reliable and accurate estimates of national and regional collections, utilization, and safety of all blood products—red blood cells, fresh frozen plasma, and platelets. New to the 2007 NBCUS is the identification and collection of baseline data for biovigilance blood safety monitoring. An important purpose of the survey is to help the federal government implement a blood safety public health monitoring system. The survey will be mailed to approximately 3000 institutions that include hospitals, blood collection facilities, and cord blood banks selected from the American Hospital Association annual survey database and AABB member list of blood collection facilities, respectively. The maximum length of the instrument will be approximately 20-21 pages and the estimated number of data elements will be 200 to 300. The survey will include general questions about the institution, questions about blood collection, processing, and testing, blood transfusion, special procedures and product disposition, cellular therapy products, and human tissue. The 2007 NBCUS will also include additional questions on issues of biovigilance patient safety monitoring. Facilities will be surveyed regarding their 2006 calendar year activities. A toll-free hotline service for survey inquiries will be made available. Follow-up procedures will be in place to address survey non-responders. Following data collection, statistical tabulations of results for each question will be performed. The survey data will be analyzed by institution type, services provided, USPHS region, etc. A final comprehensive report on blood collection and transfusion-related activities in the United States will be issued for publication by HHS.

Frequency: One time.

Affected Public: Business or other for-profit.

Annual Number of Respondents: 3000.

Total Annual Responses: 3000.

Average Burden Per Response: 3 hours.

Total Annual Hours: 9000.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the Desk Officer at the address below:

OMB Desk Officer: John Kraemer, OMB Human Resources and Housing Branch, Attention: (OMB #0990-New), New Executive Office Building, Room 10235, Washington, DC 20503.

Dated: March 29, 2007.
Alice Bettencourt,
Office of the Secretary, Paperwork Reduction Act Reports Clearance Officer.

[FR Doc. E7-6415 Filed 4-5-07; 8:45 am]

BILLING CODE 4150-41-P